DEPARTMENT OF HEALTH AND HUMAN SERVICES

Centers for Medicare & Medicaid Services

42 CFR Part 411

[CMS-1163-F]

RIN 0938-AK47

Medicare Program; Prospective Payment System and Consolidated Billing for Skilled Nursing Facilities-Update; Final Rule

Correction

In the issue of Monday, September 17, 2001, on page 48078, in the correction of rule document 01-18869, in the third column, in the first full paragraph, in the fourth line, “§415.102” should read, “§415.102(a)”.

[FR Doc. C1-18869 Filed 11-21-01; 8:45 am]

BILLING CODE 1505-01-D

DEPARTMENT OF THE TREASURY

Office of the Comptroller of the Currency

12 CFR Part 8

[Docket No. 01-23]

RIN 1557-ACOO

Assessemnt of Fees

Correction

In rule document 01-28692 beginning on page 57645 in the issue of Friday, November 16, 2001, make the following corrections:

§8.2 [Corrected]

1. On page 57647, §8.2 (a), in the table at the bottom of the page, first column, eighth figure,“16,000” should read “6,000”.

2. On the same page, §8.2 (a), in the table at the bottom of the page, first column, tenth figure, “140,000” should read “40,000”.

[FR Doc. C1-28692 Filed 11-21-01; 8:45 am]

BILLING CODE 1505-01-D